DEPARTMENT OF COMMERCE

Submission for OMB Review; Comment Request

The Department of Commerce will submit to the Office of Management and Budget (OMB) for clearance the following proposal for collection of information under the provisions of the Paperwork Reduction Act.

Agency: U.S. Census Bureau.

Title: Annual Wholesale Trade Survey.

OMB Control Number: 0607-0195.

Form Number(s): SA-42, SA-42A, SA-42A(MSBO), SA-42(AGBR), SA-42A(AGBR).

Type of Request: Revision of a currently approved collection.

Number of Respondents: 8,900.

Average Hours per Response: 1 hour and 15 minutes.

Burden Hours: 11,085.

Needs and Uses: The Annual Wholesale Trade Survey (AWTS) covers employer firms with establishments located in the United States and classified in wholesale trade as defined by the North American Industry Classification System (NAICS). This sector annually publishes two main categories for wholesalers: (1) Merchant wholesalers that sell goods on their own account (including sales offices and sales branches, except retail stores, maintained by manufacturing, refining, or mining enterprises apart from their plants or mines for the purpose of marketing their products) and (2) electronic markets, agents, and brokers that arrange sales for purchases for others generally for a commission or fee.

Respondents are separated into three type of operation classifications: (1) Merchant wholesale establishments, excluding manufacturers' sales branches and offices; (2) manufacturers' sales branches and offices; and (3) agents, brokers, and business-to-business electronic markets. The survey requests firms to provide annual sales, annual e-commerce sales, year-end inventories held inside or outside of the United States, total operating expenses, purchases, and for selected industries, commissions, and sales on their own account. These data are used to satisfy a variety of public and business needs such as conducting economic market analysis, gauging company performance, and forecasting future demand as well as serving as a benchmark for the estimates compiled from the Monthly Wholesale Trade Survey [OMB No. 0607-0190].

Results will be published on the current 2012 NAICS basis, by type of wholesaler, at the United States summary level, and for selected wholesale industries approximately 14 months after the end of the reference year

A new sample was introduced with the 2016 AWTS. Approximately 73% of the sample asked to report will be doing so for the first time (and, consequently, approximately 73% of the old sample will no longer be asked to report). For the 2016 AWTS the Census Bureau requested two years of data, 2016 and 2015, in order to link old and new samples and ensure that the published estimates continue to be reliable and accurate. Every 5 years AWTS collects detailed operating expenses and sales tax. These items were last collected in 2013 for the 2012 survey year. The plan is to reinstate these questions in 2018 as part of the 2017 AWTS data collection. These detailed expense questions are only applicable to the merchant wholesale establishments, excluding manufacturers' sales branches and offices.

The Bureau of Economic Analysis (BEA) uses the data to estimate the change in the private inventories component of gross domestic product (GDP) and output in both the benchmark and annual input-output (I-O) accounts and GDP by industry. The tax data are used to prepare estimates of GDP by industry and to derive industry output for the I-O accounts. The data on detailed operating expenses are used to produce national estimates of value added, gross output, and intermediate inputs and serve as a benchmark for the annual industry accounts, which provide the control totals for the GDP-by-state accounts.

The Bureau of Labor Statistics uses the data as input to its Producer Price Indices and in developing productivity measurements.

Affected Public: Business or other for-profit.

Frequency: Annually.

Respondent's Obligation: Mandatory.

Legal Authority: The Census Bureau conducts this survey under the authority of Title 13, United States Code, Sections 131 and 182. Sections 224 and 225 make this survey mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-22674 Filed 10-18-17; 8:45 am]

BILLING CODE 3510-07-P